DEPARTMENT OF AGRICULTURE

Natural Resources Conservation Service

Notice of a Finding of No Significant Impact—Little Choconut Creek Watershed, Broome County, NY

ACTION: Notice of a Finding of No Significant Impact—Little Choconut Creek Watershed, Broome County, New York.

SUMMARY: Pursuant to Section 102(2)(c) of the National Environmental Policy Act of 1969; the Council on Environmental Quality Regulations (40 CFR Part 1500); and the Natural Resources Conservation Service Regulations (7 CFR Part 650); the Natural Resources Conservation Service, U.S. Department of Agriculture, gives notice that an environmental impact statement is not being prepared for the Little Choconut Creek Flood Control Dam Site 2 rehabilitation project, Broome County, New York.

FOR FURTHER INFORMATION CONTACT: Dennis DeWeese, Acting State Conservationist, Natural Resources Conservation Service, 441 S. Salina St., Suite 354, Syracuse, NY 13202; telephone: (315) 477-6504.

SUPPLEMENTARY INFORMATION: The environmental assessment of this federally assisted action indicates that the project will not cause significant local, regional, or national impacts on the environment. As a result of these findings, Dennis DeWeese, Acting State Conservationist, has determined that the preparation and review of an environmental impact statement is not needed for this project.

The project purpose is to rehabilitate dam site 2 in order to extend the useful life of the structure and meet current dam safety criteria. The planned works of improvement include sediment removal from behind the dam and increasing the height of the auxiliary spillway.

The Notice of a Finding of No Significant Impact (FONSI) has been forwarded to the Environmental Protection Agency and to various Federal, State, and local agencies and interested parties. A limited number of copies of the FONSI are available to fill single copy requests at the above address. Basic data developed during the environmental assessment are on file and may be reviewed by contacting Dennis DeWeese, Acting State Conservationist, New York.

No administrative action on implementation of the proposal will be taken until 30 days after the date of this publication in the Federal Register.

(This activity is listed in the Catalog of Federal Domestic Assistance under NO. 10.904, Watershed Protection and Flood Prevention, and is subject to the provisions of Executive Order 12372, which requires intergovernmental consultation with State and local officials.)

Dated: August 4, 2008.
Dennis DeWeese,
Acting State Conservationist, Natural Resources Conservation Service, Syracuse, NY.

[FR Doc. E8-19160 Filed 8-18-08; 8:45 am]

BILLING CODE 3410-16-P